DEPARTMENT OF TRANSPORTATION

Federal Aviation Administration

Ninth RTCA SC-229 406 MHz ELT Plenary Joint With EUROCAE WG-98 10th Plenary

AGENCY: Federal Aviation Administration (FAA), U.S. Department of Transportation (DOT).

ACTION: Ninth RTCA SC-229 406 MHz ELT Plenary Joint with EUROCAE WG-98 10th Plenary.

SUMMARY: The FAA is issuing this notice to advise the public of a meeting of Ninth RTCA SC-229 406 MHz ELT Plenary Joint with EUROCAE WG-98 10th Plenary.

DATES: The meeting will be held December 13-15, 2016, 9:00 a.m.-5:00 p.m.

ADDRESSES: The meeting will be held at: RTCA Headquarters, 1150 18th Street NW., Suite 910, Washington, DC 20036.

FOR FURTHER INFORMATION, CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Ninth RTCA SC-229 406 MHz ELT Plenary Joint with EUROCAE WG-98 10th Plenary. The agenda will include the following:

Tuesday, December 13, 2016 (9:00 a.m.-5:00 p.m.)

1. Welcome/Introductions/Administrative Remarks

2. Agenda overview and approval

3. Lorient meeting review and approval

4. Review Action Items from Lorient meeting

5. “Phasing in” RTCA/DO-204B, EUROCAE/ED-62B—Timeline and ToR

6. Briefing of: ICAO GADSS-AG, COSPAS-SARSAT activities

7. Other Industry coordination and presentations

8. WG 2 to 5 status and week's plan

9. WG meetings (rest of the day)

Wednesday, December 14, 2016 (9:00 a.m.-5:00 p.m.)

WG 2 to 5 meetings

Thursday, December 15, 2016 (9:00 a.m.-4:00 p.m.)

1. WG 2-5 meetings in the morning

2. WGs' reports

3. Action item review

4. Future meeting plans and dates

5. Industry coordination and presentations (if any)

6. Other business

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 18, 2016.
Mohannad Dawoud,
Management & Program Analyst, Partnership Contracts Branch, ANG-A17 NextGen, Procurement Services Division, Federal Aviation Administration.

[FR Doc. 2016-25578 Filed 10-21-16; 8:45 am]

BILLING CODE 4910-13-P